POSTAL SERVICE

Product Change—Priority Mail Express, Priority Mail, and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: July 30, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC Docket No. | K Docket No.
07/22/25 | PME-PM-GA 1393 | MC2025-1582 | K2025-1575
07/23/25 | PM 910 | MC2025-1583 | K2025-1576
07/23/25 | PME-PM-GA 1394 | MC2025-1584 | K2025-1577
07/23/25 | PM 911 | MC2025-1586 | K2025-1578
07/25/25 | PM 912 | MC2025-1591 | K2025-1583

Documents are available at www.prc.gov.

Sean C. Robinson,
Attorney, Corporate and Postal Business Law.

[FR Doc. 2025-14385 Filed 7-29-25; 8:45 am]

BILLING CODE 7710-12-P